COMMISSION ON THE FUTURE OF THE UNITED STATES AEROSPACE INDUSTRY

Public Meeting

AGENCY: Commission on the Future of the United States Aerospace Industry.

ACTION: Notice.

SUMMARY: This meeting is the fifth in a series of planned public meetings being held by the Commission to carry out its statutory charge with respect to the U.S. civil and military, air and space industry. The focus of this meeting is to deliberate and vote on recommendations to be included in the Commission's final report to Congress and the President.

Section 1092 of the Floyd D. Spence National Defense Authorization Act for Fiscal Year 2001 (Pub. L. 106-398) established the Commission on the Future of the United States Aerospace Industry to study the issues associated with the future of the United States national security; and assess the future importance of the domestic aerospace industry for the economic and national security of the United States. The Commission is governed by the provisions of the Federal Advisory Committee Act, Pub. L. 92-463, as amended (5 U.S.C. Appendix 2), which sets forth standards for the formation of advisory committees and implementing regulations (41 CFR Subpart 101-6.10). All interested parties are welcome to submit written comments at any time.

Time and Date: Tuesday, September 17, 2002; 3 p.m. to 5:30 p.m.

ADDRESSES: Herbert C. Hoover Building Auditorium, U.S. Department of Commerce, 14th Street and Constitution Avenue, NW., Washington, DC 20230.

FOR FURTHER INFORMATION CONTACT: Cindy Waters, 1235 Jefferson Davis Highway, Suite 940; Arlington, Virginia 22202; phone 703-602-1515; e-mail watersc@osd.pentagon.mil. Reasonable accommodations will be provided for any individual with a disability. Pursuant to the Rehabilitation Act of 1973 and the Americans with Disabilities Act of 1990, any individual with a disability who requires reasonable accommodation to attend the public meeting of the Aerospace Commission may request assistance by contacting Cindy Waters at least five (5) working days in advance.

Dated: August 23, 2002.
Charles H. Huettner,
Executive Director, Commission on the Future of the United States Aerospace Industry.

[FR Doc. 02-22053 Filed 8-28-02; 8:45 am]

BILLING CODE 6820-WP-P